DEPARTMENT OF JUSTICE

Office of Justice Programs: Agency Information Collection Activities: Proposed Collection; Comment Request

ACTION: 60-day notice of information collection under review: Reinstatement with changes of a previously approved collection for which approval has expired: Survey of inmates in State and Federal Correctional Facilities, 2003.

The Department of Justice (DOJ), Office of Justice Programs, has submitted the following information collection request to the Office of Management and Budget (OMB) for review and approval in accordance with the Paperwork Reduction Act of 1995. The proposed information collection is published to obtain comments from the public and affected agencies. Comments are encouraged and will be accepted for sixty days, until August 2, 2002. This process is in accordance with the 5 CFR 1320.10.

If you have comments, especially on the estimated public burden or associated response time, suggestions, or need a copy of the proposed information collection instrument with instructions or additional information, please contact Tracy L. Snell, Statistician, (202) 616-3288, Office of Justice Programs, U.S. Department of Justice, 810 Seventh St., NW., Washington, DC 20531.

Request written comments and suggestions from the public and affected agencies concerning the proposed collection of information are encouraged. Your comments should address one or more of the following points:

(1) Evaluate whether the collection of information is necessary for the proper performance of the functions of the agency, including whether the information will have practical utility;

(2) Evaluate the accuracy of the agency's estimate of the burden of the collection of information, including the validity of the methodology and assumptions used;

(3) Enhance the quality, utility and clarity of the information to be collected; and

(4) Minimize the burden of the collection of information on those who are to respond, including through the use of appropriate automated, electronic, mechanical, or other technological collection techniques or other forms of information technology, e.g. permitting electronic submission of responses.

Overview of this information collection:

(1) Type of information collection: Reinstatement, with Change, of a Previously Approved Collection for which Approval has Expired.

(2) Title of the Form/Collection: Survey of Inmates in State and Federal Correctional Facilities—2003.

(3) Agency form number and the applicable component of the Department sponsoring the collection: Forms: NPS-25 CAPI Instrument and NPS-13 Sampling Questionnaire. Corrections Unit, Bureau of Justice Statistics, Office of Justice Programs, United States Department of Justice.

(4) Affected public who will be asked to respond, as well as a brief abstract: Primary: Individuals. Others: State government and Federal government. The pretest survey will include an estimated 100 personal interviews with inmates held in State and Federal prisons. The national survey will include an estimated 16,000 personal interviews with State prison inmates and 4,000 personal interviews with Federal prison inmates. The surveys will include a full-scale implementation of the CAPI questionnaire, automated data control systems, and sample selection. The survey will profile prison inmates nationwide to determine trends in inmate composition, criminal history, drug abuse, mental and physical health status, gun use and crime, and inmate activities while in prison. The Bureau of Justice Statistics uses information from the national survey in published reports, and for the U.S. Congress, Executive Office of the President, practitioners, researchers, students, the media, and others interested in criminal justice statistics. No other collection series provides these data.

(5) An estimate of the total number of responses and the amount of time estimated for an average response: There will be an estimated 295 responses at 1 hour each for the NPS-13; 4,950 hours of prison staff time to escort inmates to/from interview sites; and 20,100 inmate responses at 1 hour each for the NPS-25.

(6) An estimate of the total public burden (in hours) associated with the collection: The estimated total public burden is 25,435 annual hours.

If additional information is required contact: Mrs. Brenda E. Dyer, Deputy Clearance Officer, United States Department of Justice, Information Management and Security Staff, Justice Management Division, Room 1600, Patrick Henry building, 601 D Street, NW., Washington, DC 20530.

Dated: May 28, 2002.
Brenda E. Dyer,
Department Deputy Clearance Officer, Department of Justice.

[FR Doc. 02-13827 Filed 5-31-02; 8:45 am]

BILLING CODE 4410-18-M